DEPARTMENT OF TRANSPORTATION

Federal Motor Carrier Safety Administration

[Docket No. FMCSA-2006-26367]

Motor Carrier Safety Advisory Committee Series of Public Subcommittee Meetings

AGENCY: Federal Motor Carrier Safety Administration (FMCSA), DOT.

ACTION: Notice of meeting.

SUMMARY: The FMCSA's Motor Carrier Safety Advisory Committee (MCSAC) will hold working group and subcommittee meetings on Monday-Thursday, October 24-27, 2011. The meetings will be open to the public for their duration. During the first two days, Monday-Tuesday, October 24-25, 2011, a working group of the subcommittee will discuss with FMCSA technical specifications related to wireless communications protocols that may be needed to ensure successful and secure transmission of data from electronic on-board recorders (EOBRs) to enforcement officials. The next two days, Wednesday-Thursday, October 26-27, 2011, will be devoted to a meeting of the full MCSAC EOBR subcommittee. The working group and subcommittee will discuss technical issues the full MCSAC should consider in providing input to the Agency as it develops functional specifications for EOBRs used in lieu of handwritten records of duty status (RODS).

Time and Dates: The meetings will be held Monday-Thursday, October 24-27, 2011, from 8:30 am to 5 pm, E.T. at the Sheraton Crystal City, 1800 Jefferson Davis Highway, Arlington, VA, 22202, in meeting rooms Crystal V and VI.

Matters To Be Considered: The subcommittee will continue its review of the functional specifications for EOBRs published by FMCSA as part of its final rule concerning EOBRs on April 5, 2010 (75 FR 17208), but subsequently vacated by the United States Court of Appeals for the Seventh Circuit (Seventh Circuit), and will provide suggestions to address stakeholder concerns about new specifications.

FOR FURTHER INFORMATION CONTACT: Ms. Shannon L. Watson, Senior Adviser to the Associate Administrator for Policy, Federal Motor Carrier Safety Administration, U.S. Department of Transportation, 1200 New Jersey Avenue, SE., Washington, DC 20590, (202) 385-2395, mcsac@dot.gov.

SUPPLEMENTARY INFORMATION:

I. Background

MCSAC

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations and operates in accordance with the Federal Advisory Committee Act (5 U.S.C. App 2).

EOBRs

On April 5, 2010, FMCSA issued a final rule that required the use of EOBRs by motor carriers with significant hours-of-service violations, as determined through an on-site enforcement intervention (75 FR 17208). The rule also set forth new technical requirements or functional specifications for EOBRs used in lieu of handwritten RODS. The compliance date for the rule was June 4, 2012.

The Owner-Operator Independent Drivers Association (OOIDA) filed a petition for judicial review of the EOBR final rule with the Seventh Circuit. On August 26, 2011, the Seventh Circuit vacated the final rule because the Agency failed to consider a statutory mandate to “ensure that [EOBRs] are not used to harass vehicle operators” (49 U.S.C. 31137(a)). [Owner-Operator Indep. Drivers Ass'n., et al. v. Fed. Motor Carrier Safety Admin., No. 10-2340 (7th Cir. 2011).]

The Agency will not appeal the court's decision and will issue a final rule at a later date to remove all regulatory text from the Code of Federal Regulations related to the vacated April 5, 2010, final rule. However, the MCSAC subcommittee will continue its review of the technical specifications pertaining to EOBRs published on April 5, 2010 (75 FR 17208).

MCSAC Subcommittee (EOBR Technical Issues)

During the MCSAC's June 20-22, 2011, public meeting, FMCSA tasked the group to review the functional specifications included in the April 5, 2010, final rule and provide suggestions to address stakeholder concerns about the technical requirements for EOBRs. A copy of the task statement and all MCSAC materials related to the assignment are posted at http://mcsac.fmcsa.dot.gov. The Agency assigned this task to the MCSAC after making a preliminary determination that additional information would be needed to ensure that roadside inspection officials are able to obtain and/or retrieve EOBR data in order to assess drivers' compliance with the HOS regulations. After the 2010 final rule was published, stakeholders in the CMV safety enforcement and EOBR supplier communities urged that certain requirements of the rule be revisited. Some communications methods that were presumed to be viable when the rule was developed appear less appropriate now as technology and government information technology security standards have evolved.

The MCSAC established a subcommittee to explore these complex issues. The subcommittee's meetings were announced in the Federal Register and open to all interested parties [(76 FR 38268), June 29, 2011)]. Following its October 27, 2011 session, the subcommittee will submit its report to the full MCSAC. The MCSAC will review and discuss the subcommittee's report at MCSAC's December 2011 public meeting and submit to the Agency its recommendations concerning functional specifications. The Agency will consider the MCSAC report in any future rulemaking to re-establish functional specifications for EOBRs.

II. Meeting Participation

The meetings will be open to the public for their duration. Public comments may be heard beginning at 4:30 pm on each meeting day.

You may submit written comments identified by Docket ID Number FMCSA-2006-26367 by Friday, October 14, 2011, for the October 24-27 meeting using any of the following methods:

Federal eRulemaking Portal: http://www.regulations.gov. Follow the online instructions for submitting comments.

Mail: Docket Management Facility: U.S. Department of Transportation, 1200 New Jersey Avenue, SE., West Building, Ground Floor, Room W12-140, Washington, DC 20590-0001.

Hand Delivery or Courier: West Building, Ground Floor, Room W12-140, 1200 New Jersey Avenue, SE., between 9 a.m. and 5 p.m. ET, Monday through Friday except Federal holidays.

Fax: 202-493-2251.

Do not submit the same comment by more than one method. To allow effective public participation before the comment period deadline, FMCSA encourages use of the Web site listed above (Federal eRulemaking Portal: http://www.regulations.gov).

III. Services for Individuals With Disabilities

For assistance with services for individuals with disabilities or to request special assistance, please send your request to the address listed in the FOR FURTHER INFORMATION CONTACT section of this notice, or e-mail your request to shannon.watson@dot.gov by Friday, October 14.

Issued on: September 30, 2011.
Larry W. Minor,
Associate Administrator for Policy.

[FR Doc. 2011-25916 Filed 10-6-11; 8:45 am]

BILLING CODE 4910-EX-P